DEPARTMENT OF THE INTERIOR

Minerals Management Service

Outer Continental Shelf (OCS) Civil/Criminal Penalties

AGENCY: Minerals Management Service (MMS), Interior.

ACTION: Notice summarizing OCS civil penalties paid, January 1, 2003 through December 31, 2003.

SUMMARY: This notice provides a listing of civil penalties paid January 1, 2002 through December 31, 2002, for violations of the OCS Lands Act. The purpose of publishing the penalties summary is to provide information to the public on violations of special concern in OCS operations and to provide an additional incentive for safe and environmentally sound operations.

FOR FURTHER INFORMATION CONTACT: Doug Slitor (Program Coordinator), Safety and Enforcement Branch, Engineering and Operations Division, (703) 787-1030.

SUPPLEMENTARY INFORMATION: The Oil Pollution Act of 1990 (OPA 90) strengthened section 24 of the OCS Lands Act Amendments of 1978. Subtitle B of OPA 90, titled “Penalties,” increased the amount of the civil penalty from a maximum of $10,000 to a maximum of $25,000 per violation for each day of noncompliance. More importantly, in cases where a failure to comply with applicable regulations constitutes or constituted a threat of serious, irreparable, or immediate harm or damage to life (including fish and other aquatic life); property; any mineral deposit; or the marine, coastal, or human environment; OPA 90 provided the Secretary of the Interior (Secretary) with the authority to assess a civil penalty without regard to the requirement of expiration of a period of time allowed for corrective action.

On August 8, 1997 (62 FR 42668), MMS published new regulations implementing the civil penalty provisions of the OCS Lands Act. Written in “plain English,” the new question-and-answer format provides a better understanding of the OCS civil penalty process. In addition, the provisions of the OPA 90 require the Secretary to adjust the maximum civil penalty to reflect any increases in the Consumer Price Index. The new rule increased the maximum civil penalty to $25,000 per day, per violation. Please note, subsequent to publishing the new regulations, MMS made several corrections and amendments, including the appeals procedures. These were published at 63 FR 42711, 8/11/98; 64 FR 9066, 2/24/99; 62 FR 9065, 2/24/99, and 64 FR 26257, 5/13/99.

Between August 18, 1990, and January 2003, MMS initiated 450 civil penalty reviews. Operators have paid 341 civil penalties for a total of $9,353,342 in fines. Sixty-two cases were dismissed, 5 cases were merged, and 44 are under review.

On September 1, 1997, the Associate Director of Offshore Minerals Management issued a notice informing lessees and operators of Federal oil, gas, and sulphur leases on the OCS that MMS will annually publish a summary of OCS civil penalties paid. The annual summary will highlight the identity of the party, the regulation violated, and the amount paid. The following table provides a listing of the penalties paid between January 1, 2002, and December 31, 2002. Please note that the MMS published a direct final rule (5/29/98, 63 FR 29477) that renumbers each section in 30 CFR part 250. A quarterly update of the list, along with additional information related to the renumbering of the regulations, is posted on the MMS worldwide web home page, http://www.mms.gov.

OCS Civil/Criminal Penalties Program

The goal of the MMS OCS Civil/Criminal Penalties Program is to assure safe and clean operations on the OCS. Through the pursuit, assessment, and collection of civil penalties and referrals for the consideration of criminal penalties, the program is designed to encourage compliance with OCS statutes and regulations.

The following acronyms are used in this table:

ESD (emergency shutdown device);

INC (incident of noncompliance);

LACT (liquid automatic custody transfer);

LSH (level safety high);

LSL (level safety low);

MAWP (maximum allowable working pressure);

NON (notice of noncompliance);

PSH (pressure safety high);

PSHL (pressure safety high/low);

PSL (pressure safety low);

PSV (pressure safety valve);

SDV (shutdown valve);

SSSV (surface-controlled subsurface safety valve);

SSV (surface safety valve).

2002 Civil/Criminal Penalties Summary
[Paid in Calendar Year 2002]
Operator name and Case No. | Violation and date(s) | Penalty paid and date paid | Regulation(s) violated (30 CFR)
The Louisiana Land and Exploration Company—G-2000-047 | The master shutdown devices for bad oil pump number 1, bad oil pump number 2 and for 7 wells were bypassed; as well as the pressure safety low on the fuel gas scrubber. 06/14/00-06/14/00 | $85,000 01/11/02 | 250.803(c)(1)
Fairways Specialty Sales & Service, Inc.—G-2001-004 | Operator did not conduct an annual crane inspection and the Low Pressure Oil Separator was operating above the MAWP. 06/03/00-10/26/00 09/23/00-10/30/00 | $83,000 04/12/02 | 250.107(a) 250.108
El Paso Production Oil & Gas Company—G-2001-005 | The level safety high on the sump tank was bypassed. 10/13/00-10/13/00 | $13,000 02/13/02 | 250.803(c)(1)
Matrix Oil & Gas, Inc.—G-2001-006 | INC issued for a hole was in piping caused by corrosion approximately 1 foot down stream of the PSV on the test separator. 09/14/00-09/29/00 | $17,000 11/19/02 | 250.107
Fairways Specialty Sales & Service, Inc.—G-2001-009 | Facility was not identified as required and the operator did not correct the violation until 209 days after being cited. Civil Penalty is being pursued as a failure to correct. Facility had corrosion problems including rusty handrails, nuts, bolts, nipples, and valves and the operator did not correct the violation until 213 days after being cited. Civil Penalty is being pursued as a failure to correct. 07/11/00-02/04/01 07/11/00-02/08/01 | $84,800 04/12/02 | 250.154 250.107
Fairways Specialty Sales & Service, Inc.—G-2001-010 | Facility was not identified as required and the operator did not correct the violation until 90 days after being cited. Civil Penalty is being pursued as a failure to correct. Facility had corrosion problems including rusty piping, handrails, nuts, bolts, nipples, and valves, and the operator did not correct. 11/06/00-02/01/01 11/06/00-02/05/01 | $26,200 04/12/02 | 250.107 250.154
EEX Corporation—G-2001-013 | Pressure safety low on condensate pump bypassed. 12/01/00-12/01/00 | $7,500 03/19/02 | 250.803(c)(1)
El Paso Production Oil & Gas Company—G-2001-015 | There were 5 wells where the downhole tubing plug was not tested within the required timeframe. 06/04/00-02/20/01 | $7,000 02/01/02 | 250.804(a)(1)(iii)
Texaco Exploration and Production Inc.—G-2001-017 | Inoperable Gas Detection system in the drilling mud returns. 04/17/01-04/17/01 | $12,500 01/29/02 | 250.410(c)(2)(iv)
Amerada Hess Corporation—G-2001-018 | ESD (emergency shutdown) station on boat landing was bypassed; the PSHL (pressure safety high/low) on the departing oil pipeline was found bypassed; and the PSV (pressure safety valve) on the bulk oil dual separator was bypassed. 04/11/01-04/11/01 03/31/01-03/31/01 03/31/01-03/31/01 | $36,000 04/18/02 | 250.803(c)(1) 250.803(c)(1) 250.1004(b)(3)
The Louisiana Land and Exploration Company—G-2001-020 | The SSSV for Wells Nos. B-1 and B-3 was bypassed. 03/07/01-03/07/01 | $20,000 01/11/02 | 250.803(c)(1)
Texaco Exploration and Production Inc.—G-2001-021 | Bypassed manual reset relay for the test separator. 05/21/00-05/21/00 | $10,000 01/23/02 | 250.803(c)(1)
Chevron U.S.A. Inc.—G-2001-024 | The surface safety value (SSV) for Well C-7 was bypassed. 06/15/01-06/16/01 | $20,000 01/23/02 | 250.803(c)(1)
BP Corporation North America Inc.—G-2001-025 | Level safety low (LSL) for glycol/hydrocarbon separator was found bypassed. 06/12/01-06/13/01 | $20,000 01/10/02 | 250.803(c)(1)
El Paso Production GOM Inc.—G-2001-026 | Burner safety low on glycol reboiler was found bypassed. It was not flagged or being monitored at the time. 05/24/01-05/24/01 | $12,000 06/05/02 | 250.803(c)(1)
El Paso Production Oil & Gas Company—G-2001-027 | ESD station blocked out of service by a closed manual isolation block valve located on the sub-cellar deck exit stairway to the boating landing. 06/19/01-06/19/01 | $17,000 04/15/02 | 250.803(c)(1)
Chevron U.S.A. Inc.—G-2001-028 | Pollution occurred when both the wet oil tank and sump tank carried over. The level safety high (LSH) on the wet oil tank did not shut in the platform as indicated on SAFE chart. 05/25/01-05/25/01 05/25/01-05/25/01 | $36,000 01/29/02 | 250.300(a) 250.802(e)
Denbury Resources Inc.—G-2001-029 | A major component of the approved dry chemical firefighting system was inoperable. 05/08/01-05/08/01 | $15,000 03/07/02 | 250.803(b)(8)
Panaco, Inc.—G-2001-030 | The ultraviolet (UV) fire detection system for turbine generators was bypassed plus no record of testing the fire detection system from 5/2/99 to 5/2/01. 05/02/99-05/02/01 05/02/01-05/02/01 | $151,000 02/12/02 | 250.804(a)(8) 250.803(c)(1)
NCX Company, Inc.—G-2001-031 | The 2″ ball valve for the bypass line, near the fuel gas scrubber shutdown valve (SDV), was in the half-open position rendering the SDV inoperative. 07/11/01-07/11/01 | $12,000 04/24/02 | 250.803(c)(1)
Stone Energy Corporation—G-2001-034 | Five barrels of oil polluted the Gulf of Mexico. The pressure safety high/low and independent pressure safety high were bypassed. 07/05/01-07/05/01 07/05/01-07/05/01 | $35,000 05/03/02 | 250.803(c)(1) 250.300(a)
Energy Partners, Ltd.—G-2001-035 | The surface safety valve on Well C-1A was bypassed. 07/22/01-07/22/01 | $10,000 06/10/02 | 250.803(c)(1)
Devon Energy Production Company, L.P.—G-2001-036 | Operating with an inoperable inlet SDV on the compressor suction scrubber while the compressor remained in service and on production for 76 days. 04/25/01-07/09/01 | $15,200 08/12/02 | 250.803(b)(7)(iii)
Amoco Production Company—G-2001-037 | Fuel Gas Scrubber SDV bypassed and PSH nonfunctional. 07/17/01-07/17/01 | $15,000 04/02/02 | 250.803(c)(1)
Energy Resource Technology, Inc.—G-2001-038 | The high-pressure freewater knockout separator panel was pinned out of service. 11/30/00-11/30/00 | $15,000 06/11/02 | 250.803(c)(1)
NCX Company, Inc.—G-2001-039 | The manual emergency shutdown (ESD) station located on the east production deck stairway exit to the cellar deck was found disconnected from the facility ESD system, and the platform's monitoring gas detection system (ASH) was found bypassed. 07/17/01-07/17/01 07/17/01-07/17/01 | $24,500 03/22/02 | 250.803(c)(1) 250.803(b)(4)
BP Exploration & Oil Inc.—G-2001-040 | Rig floor hand injured after receiving a shock from an improperly grounded skid mounted electrical pressure washer. 03/15/01-03/15/01 | $23,000 05/09/02 | 250.114(c)
Apache Corporation—G-2001-041 | Surface safety valve (SSV) on Well No. A-5 was found pinned out of service. 07/16/01-07/16/01 | $13,000 05/10/02 | 250.803(c)(1)
GOM Shelf LLC—G-2001-042 | The emergency shutdown stations (ESD's) at the southeast and northwest stairways at the +10 deck were discovered inoperable. The ESD's at the southwest and northeast boat landings were also discovered inoperable. 07/24/01-07/24/01 | $60,000 09/24/02 | 250.803(b)(4)
Devon Energy Production Company, L.P.—G-2001-044 | The “total system bypass” was found in the bypass position on a slave panel. This bypassed the pressure safety high/low and level safety high on the fuel gas scrubber. 06/27/01-06/27/01 | $3,000 06/20/02 | 250.803(c)(1)
Union Oil Company of California—G-2001-045 | The level safety high on the sump tank was bypassed. 07/23/01-07/23/01 | $10,000 04/16/02 | 250.803(c)(1)
Union Oil Company of California—G-2001-047 | The emergency shutdown (ESD) station at the boat landing was found blocked out of service. 08/12/01-08/12/01 | $5,000 09/11/02 | 250.803(c)(1)
Union Oil Company of California—G-2002-001 | The emergency shutdown (ESD) stations on the northwest, southwest, east, and west boat landings were all bypassed. 09/18/01-09/18/01 | $20,000 09/11/02 | 250.803(c)(1)
Nuevo Energy Company—P-2002-001 | Failure to test fire and gas detection systems on required basis (every 3 months); 1 testing period missed. Failure to conduct required monthly testing for flow safety valves on water injection wells for 2 months; 2 testing periods missed. 06/22/01-07/23/01 06/23/01-07/13/01 | $6,000 08/08/02 | 250.804(a)(8) 250.804(a)(8)
Union Oil Company of California—G-2002-003 | Pressure safety high/low and level safety high on fuel gas scrubber were found bypassed. 09/25/01-09/25/01 09/25/01-09/25/01 | $17,500 09/11/02 | 250.803(c)(1) 250.803(c)(1)
Fairways Specialty Sales & Service, Inc.—G-2002-004 | Oil was observed entering the Gulf of Mexico from two different sources associated with the water clarifier: from the open end of an unapproved 4″ PVC line installed on the water overboard discharge line and extending approximately 20′ into the air, and directly from the water overboard discharge line due to a malfunctioning dump valve. 09/28/01-09/28/01 09/28/01-09/28/01 | $42,500 08/20/02 | 250.802(e) 250.300(a)
J.M. Huber Corporation—G-2002-005 | The sump pump was not operational resulting in pollution of crude oil into Gulf waters. 10/30/01-10/30/01 10/30/01-10/30/01 | $35,000 08/16/02 | 250.300(b)(4) 250.300(a)
Fairways Specialty Sales & Service, Inc.—G-2002-006 | Emergency shutdown stations at two boat landings and the shutdown valve to the test separator were bypassed. 11/07/01-11/07/01 11/08/01-11/08/01 | $28,000 08/20/02 | 250.803(c)(1) 250.803(c)(1)
Linder Oil Company, A Partnership—G-2002-008 | The walkway to the sump tank, handrails on a stairway and +12 walkway, and grating at the wellbay area on the +12 level were not maintained in a safe condition. The walkway and handrails had corroded to the point of separation and the grating had missing sections. 08/28/01-09/20/01 | $25,000 09/10/02 | 250.107
Union Oil Company of California—G-2002-010 | Three emergency shutdown stations were bypassed at the +10 deck level. 10/29/01-11/06/01 | $15,000 09/11/02 | 250.803(c)(1)
Kerr-McGee Corporation—G-2002-011 | The surface-controlled subsurface safety valves in Wells A-6 & A-6D were bypassed for 11 days. 09/14/01-09/24/01 | $66,000 10/22/02 | 250.803(c)(1)
Vastar Resources, Inc.—G-2002-012 | Two emergency shutdown stations were inoperable; one at the boat landing on the F structure and one at the boat landing on the I structure. 12/03/01-12/03/01 | $37,000 08/13/02 | 250.803(b)(4)
Kerr-McGee Oil & Gas Corporation—G-2002-013 | Rusty vessel, walkways, stairways, and grating preventing safe operations. 12/21/01-12/21/01 | $20,000 10/22/02 | 250.107
Shell Offshore Inc.—G-2002-014 | Flowline pressure-activated relay had a pin inserted in it thereby bypassing the pressure safety high/low for flowline segment FA-2. 10/01/01-10/01/01 | $12,000 12/09/02 | 250.803(c)(1)
Exxon Mobil Corporation—G-2002-015 | Secondary sump pump, approved in lieu of level safety high on sump tank, found out of service. 01/10/02-01/11/02 | $15,000 09/09/02 | 250.802(e)
Seneca Resources Corporation—G-2002-016 | Surface-controlled subsurface safety valve (SSSV) for Well No. 15 was bypassed and out of service. 12/11/01-12/14/01 | $32,000 08/28/02 | 250.803(c)(1)
J. M. Huber Corporation—G-2002-017 | Relay for Well Number 81 Surface Safety Valve pinned out of service. 01/08/02-01/08/02 | $7,000 08/27/02 | 250.803(c)(1)
BP Exploration & Production Inc.—G-2002-018 | The oil low level sensor on the heater treater was not tested within the required timeframe (missed 13 monthly tests). 12/13/00-12/03/01 | $39,000 09/16/02 | 250.804(a)(3)
Chevron U.S.A. Inc.—G-2002-019 | The gas sales pipeline (KAH 827) did not have secondary over-pressure protection. 11/13/01-11/13/01 | $23,000 09/30/02 | 250.1002(d)
Burlington Resources Offshore Inc.—G-2002-020 | The firewater pump was in the manual mode instead of the automatic mode, as required by the approved SAFE chart. The float cell oil pump's shutdown valve was bypassed. 04/20/01-04/20/01 04/20/01-04/20/01 | $47,500 12/05/02 | 250.802(e) 250.803(c)(1)
Remington Oil and Gas Corporation—G-2002-024 | Remote BOP control station was found inoperable. 04/18/02-04/18/02 | $12,500 12/04/02 | 250.406(d)(3)
Vastar Resources, Inc.—G-2002-030 | Leaking valves causing gas blow by and incorrectly operated Flotation Cell causing gas accumulation resulting in a fire which required an emergency evacuation of personnel and a shut in of the facility. 02/12/02-02/12/02 | $20,000 12/10/02 | 250.107
Conoco Inc.—G-2002-032 | Surface-controlled subsurface safety valve for Well A-6 was blocked out of service. 05/08/02-05/08/02 | $10,000 11/27/02 | 250.803(c)(1)
Conoco Inc.—G-2002-035 | Surface-controlled subsurface safety valve for Well A-5 was blocked out of service. 05/09/02-05/09/02 | $5,000 11/27/02 | 250.803(c)(1)
Total Penalties Paid: 1/1/02-12/31/02. 54 Cases: $1,448,700.

Dated: May 6, 2003.
E.P. Danenberger,
Chief, Engineering and Operations Division.

[FR Doc. 03-13958 Filed 6-3-03; 8:45 am]

BILLING CODE 4310-MR-P